DEPARTMENT OF LABOR

Office of the Secretary

“Ensuring Benefits in the Formal Sector in El Salvador”

May 8, 2008.

AGENCY: Bureau of International Labor Affairs, Department of Labor.

Announcement Type: New. Notice of Availability of Funds and Solicitation for Cooperative Agreement Applications. The full announcement is posted on http://www.Grants.Gov as well as on the DOL Web site at http://www.dol.gov/ilab.

Funding Opportunity Number: SGA 08-05.

Key Dates: The closing date for receipt of applications is June 6, 2008, via Grants.gov.

Funding Opportunity Description: The U.S. Department of Labor, Bureau of International Labor Affairs, announces the availability of funds to be granted by cooperative agreement to one or more qualifying organizations. The Department will award up to U.S. $940,000 through one grant to an organization or organizations to increase compliance with laws regarding employer payments to the Salvadoran Social Security Institute. Specifically, the project will improve current systems to enforce compliance with laws regarding payments to the Salvadoran Social Security Institute, and it will raise awareness among workers and employers about how they can verify that correct payments are being made and where to go if they are not being made. The duration of the project funded by this solicitation is three to four years. The start date of program activities will be negotiated upon award of the Cooperative Agreement, but will be no later than September 30, 2008.

ILAB is authorized to award and administer this program by the Consolidated Appropriations Act, 2008, Public Law No. 110-161, 121 Stat. 1844 (2007).

The full Solicitation for Grant Application is posted on http://www.Grants.Gov under U.S. Department of Labor/ILAB. Only Applications submitted through http://www.Grants.Gov will be accepted. If you need to speak to a person concerning these grants, or if you have issues regarding access to the Grants.gov Web site, you may telephone Lisa Harvey at 202-693-4592 (not a toll-free number).

Signed at Washington, DC, this 2nd day of May 2008.
Lisa Harvey,
Grant Officer.

[FR Doc. E8-10270 Filed 5-7-08; 8:45 am]

BILLING CODE 4510-28-P